Proclamation 9335 of September 30, 2015

National Cybersecurity Awareness Month, 2015

By the President of the United States of America

A Proclamation

In our increasingly connected digital world, we have the power to innovate in unprecedented ways. With the advent of new and improved technologies, we must also keep pace with safeguarding our critical infrastructure networks that, although empowering, create previously unforeseen vulnerabilities. During National Cybersecurity Awareness Month, we recognize the importance of remaining vigilant against any and all cyber threats, while recommitting to ensuring our people can use new digital tools and resources fearlessly, skillfully, and responsibly.

My Administration is working to keep our country's cyberspace safe and protected—both in the public and private sectors—and is dedicated to addressing this issue as a matter of not only public safety, but also economic and national security. Earlier this year, I signed an Executive Order to promote information sharing about cyber threats between Government and the private sector—because this is a shared mission, and all of us must work together to do what none of us can achieve alone. Additionally, as part of our comprehensive strategy, we continue to work with industry leaders to implement the Cybersecurity Framework my Administration launched last year, which promotes best practices to identify, mitigate, detect, respond to, protect against, and recover from cybersecurity incidents. And we continue to support security researchers and educators who are developing the skills, tools, and workforce required for a safer technology future.

But these efforts will only go so far. It is the responsibility of every American to proactively defend our digital landscape. The Department of Homeland Security's “Stop.Think.Connect.” campaign is designed to inform our citizenry of the dangers posed by cyber threats and to provide the tools needed to confront them. I urge all Americans to take measures to decrease their susceptibility to malicious cyber activity, including by choosing stronger passwords, updating software, and practicing responsible online behavior. I also encourage everyone to visit www.DHS.gov/StopThinkConnect to learn more about how you can help strengthen America's cybersecurity.

We now live in an era of the Internet—our children will never know a world without it. Our financial systems, our power grid, and our health systems run on it, and though widely helpful, this reliance reminds us of our need to remain aware, alert, and attentive on this new frontier. By working together to prevent and disrupt threats to our digital infrastructure, America can continue pioneering new discoveries and expanding the boundaries of humanity's reach.

NOW, THEREFORE, I, BARACK OBAMA, President of the United States of America, by virtue of the authority vested in me by the Constitution and the laws of the United States, do hereby proclaim October 2015 as National Cybersecurity Awareness Month. I call upon the people of the United States to recognize the importance of cybersecurity and to observe this month with activities, events, and training that will enhance our national security and resilience.

IN WITNESS WHEREOF, I have hereunto set my hand this thirtieth day of September, in the year of our Lord two thousand fifteen, and of the Independence of the United States of America the two hundred and fortieth.

[FR Doc. 2015-25473

Filed 10-2-15; 11:15 am]

Billing code 3295-F6-P